FEDERAL COMMUNICATIONS COMMISSION

47 CFR Part 25

[MM Docket No. 93-25; FCC 04-44]

RIN 3060-AF39

Implementation of the Cable Television Consumer Protection and Competition Act of 1992; Direct Broadcast Satellite Public Interest Obligations

AGENCY: Federal Communications Commission.

ACTION: Final rule; announcement of effective date.

SUMMARY: The Commission adopted new rules on Political Broadcasting Requirements and Guidelines concerning Commercialization of Children's Programming and public interest obligations for Direct Broadcast Satellite providers. Certain rules contained new and modified information collection requirements and were published in the Federal Register on April 28, 2004. This document announces the effective date of these published rules.

DATES: The amendments to 47 CFR 25.701(d)(1)(i), 25.701(d)(1)(ii), 25.701(d)(2), 25.701(d)(3), 25.701(e)(3), 25.701 (f)(6)(i), and 25.701(f)(6)(ii) published at 69 FR 23155, April 28, 2004, are effective September 3, 2004.

SUPPLEMENTARY INFORMATION: On August 24, 2004, the Office of Management and Budget (OMB) approved the information collection requirements contained in §§ 25.701(d)(1)(i), 25.701(d)(1)(ii), 25.701(d)(2), 25.701(d)(3), 25.701(e)(3), 25.701 (f)(6)(i), and 25.701(f)(6)(ii) pursuant to OMB Control No. 3060-1065. Accordingly, the information collection requirements contained in these rules become effective September 3, 2004.

Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Leslie F. Smith, Federal Communications Commission, (202) 418-0217 or via the Internet at Leslie.Smith@fcc.gov.

Federal Communications Commission.
Marlene H. Dortch,
Secretary.

[FR Doc. 04-20164 Filed 9-2-04; 8:45 am]

BILLING CODE 6712-01-P